DEPARTMENT OF AGRICULTURE

Forest Service

Pike and San Isabel National Forests and Cimarron and Comanche National Grasslands, Colorado and Kansas, Oil and Gas Leasing Environmental Impact Statement

AGENCY: Forest Service, USDA.

ACTION: Notice of intent to prepare an environmental impact statement.

SUMMARY: The Pike and San Isabel National Forests and Cimarron and Comanche National Grasslands (PSICC) are initiating the preparation of an environmental impact statement (EIS). The EIS will disclose the effects of updating the potential oil and gas areas available and unavailable for lease, the appropriate and applicable lease stipulations, and post-lease oil and gas development that is reasonably foreseeable as a consequence of conducting a leasing program on the PSICC. The proposed action includes the following elements: identifying what lands will be available for oil and gas leasing; what stipulations need to be attached to oil and gas leasing for the protection of other resources; and what forest/grasslands plan amendments to the 1984 PSICC Land and Resource Management Plan (Forest Plan) may be needed to incorporate the revised oil and gas leasing decision. The EIS will document changed conditions and new information since the PSICC 1992 Oil and Gas Leasing Final EIS and Record of Decision, and incorporate that information into the analysis of potential effects of leasing on other resources. Changes in conditions and information since the 1992 leasing EIS and decision include new and improved oil and gas drilling, completion, and production technology; proposed listing of the Lesser Prairie Chicken as a threatened species; increased urban development adjacent to the Forest boundary; and promulgation of a rule to protect roadless areas in Colorado.

The scope of the analysis is Forest and Grassland-wide.

DATES: Comments concerning the scope of this analysis should be received by June 19, 2013. The draft environmental impact statement is expected in January of 2014 and the final environmental impact statement is expected in September of 2014. The PSICC will convene five meetings on five separate districts on the Forest. The meetings will be taking place over two weeks starting on May 14, 2013. The Supplementary Information section of this document provides public meeting addresses, dates and times.

ADDRESSES: Send written comments to:

Pike and San Isabel National Forests and Cimarron and Comanche National Grasslands Oil and Gas Scoping

Pike and San Isabel National Forests and Cimarron and Comanche National Grasslands, 2840 Kachina Dr., Pueblo, Colorado 81008

Submit electronic comments to: https://cara.ecosystem-management.org/Public//CommentInput?Project=33788.

SUPPLEMENTARY INFORMATION: Project alternative maps, draft oil and gas stipulations and additional project information is available at the following Web site: http://www.fs.usda.gov/detail/psicc/landmanagement/projects/?cid=stelprdb5418254.

Public Open Houses

Five public open houses are planned at the following places and times:

May 14, 2013 from 6:30 p.m. to 8:00 p.m. in the Point of Rocks Room, 625 Colorado, Elkhart, Kansas 67950.

May 15, 2013 from 6:30 p.m. to 8:00 p.m. in the Minnick Building at the Baca County Fairgrounds, 28500 County Road 24.6, Springfield, Colorado 81073.

May 21, 2013 at the from 6:30 p.m. to 8:00 p.m. at the Walsenberg Community Meeting Room in 928 S. Russell St., Walsenberg, Colorado 81089.

May 22, 2013 from 6:30 p.m. to 8:00 p.m. at Bear Creek Elementary School, 1330 Creekside Dr., Monument, Colorado 80132.

May 23, 2013 from 6:30 p.m. to 8:00 p.m. at the North West Fire Protection District 21455, U.S. Highway 285 District, Fairplay, Colorado 80440.

FOR FURTHER INFORMATION CONTACT: John Dow, Forest Planner, Pike and San Isabel National Forests and Cimarron and Comanche National Grasslands, 2840 Kachina Dr, Pueblo, Colorado 81008, Phone: (719) 553-1476.

Individuals who use telecommunication devices for the deaf (TDD) may call the Federal Information Relay Service (FIRS) at -800-877-8339 between 8 a.m. and 8 p.m., Eastern Time Monday through Friday.

Purpose and Need for the Action

The Pike and San Isabel National Forests and the Cimarron and Comanche National Grasslands (PSICC) issued its current oil and gas leasing availability decision in 1992 (Final Oil and Gas Leasing Environmental Impact Statement and Record of Decision). The FS has provided consent to BLM to lease some PSICC lands since the 1992 decision was implemented and currently has pending requests to lease roughly another 27,000 acres of PSICC lands. Before the FS can authorize the BLM to lease these lands, it must verify that oil and gas leasing is adequately addressed in a NEPA document. Since 1992 information and circumstances considered under that decision have changed, including technological advances in oil and gas development activities, increased urban and suburban development, and new threatened and endangered species. Consequently, the Forest Supervisor of the PSICC has identified a need to prepare a new Oil and Gas Leasing EIS. The new Oil and Gas Leasing EIS will consider the new information or changed conditions across the Pike and San Isabel National Forests and Cimarron and Comanche National Grasslands to determine which NFS lands administered by the PSICC should be made available for oil and gas leasing and what lease stipulations should apply to those lands for the protection of other resources. The Bureau of Land Management will be a cooperating agency in this effort. The Environmental Impact Statement (EIS) will be prepared in a manner that would support BLM's independent decision to include those NFS lands administered by the PSICC that are made available for leasing, in future competitive oil and gas lease sales. Hence, the purpose for the proposed action is to allow both agencies to satisfy their respective regulatory obligations to respond to both pending and future requests to lease PSICC lands for oil and gas.

The purpose of the proposed action is to: (1) Ensure that the new technology and information is considered and adequately addressed in a NEPA document and is consistent with the PSICC land and resource management plan prior to the leasing of specific NFS lands ; (2) Fulfill the federal government's policy to ” foster and encourage private enterprise in the orderly and economic development of domestic resources to help assure satisfaction of industrial, security, and environmental needs” (Mining and Minerals Policy Act of 1970), while continuing to sustain the land's productivity for other uses and capability to support biodiversity goals (US Forest Service Minerals Program Policy); and (3) Enable the BLM to exercise its discretionary authority to offer and issue leases on NFS lands administered by the PSICC.

Proposed Action

The Forest Service proposes to identify lands administered by the PSICC that would be administratively available for oil and gas leasing and to identify which stipulations would be necessary in areas where protection of surface resources can be reasonably assured and is otherwise in accordance with law and regulation.

The Proposed Action considers the following: (1) Information that addresses new and different circumstances from those analyzed under the 1992 leasing decision; (2) lease stipulations on future leases, where needed, on lands identified as administratively available for leasing, for the purpose of protecting other resources including—(a) No Surface Occupancy (NSO) stipulations for areas identified as needing greater surface resource protection, laws, regulations, policies, and Forest Plan Standards such as, species listed under the Endangered Species Act, slopes greater than 60%; upper tier roadless acres, identified in the Colorado Roadless Rule, on leases issued after July 3. 2012; (b) Controlled Surface Use (CSU) for other specific resource concerns (c) Timing Limitations (TL) for certain—potential raptor breeding territories and winter roost sites; deer, elk, moose and pronghorn habitats; and (4) prohibition of road construction or reconstruction on oil and gas leases issued within a Colorado Roadless Area after July 3, 2012.

Current valid existing leases, including the associated terms, conditions, and stipulations would not be considered nor affected by this analysis, nor would the exercising of reserved and outstanding mineral rights on NFS lands. Proposed land availability and lease stipulation changes would only affect leases issued after a decision is implemented. The proposed changes would apply to new leases on lands that are currently leased after existing leases have been terminated, relinquished, or subsequently nominated for lease.

Possible Alternatives

(1) No New Leasing—Under this alternative, no new NFS lands administered by the PSICC would be available in the future for oil and gas leasing. Operations on existing leases would continue under applicable lease terms, statutory, and regulatory direction, and Forest Plan direction. Existing federal oil and gas leases on the PSICC that are not extended by production would terminate at the conclusion of their primary term, and those lands would not be available for further leasing. Implementation of this alternative would require a Forest Plan amendment to identify lands as closed to oil and gas leasing.

(2) No Action (Current Management)—This alternative would continue, with no changes in oil and gas leasing availability and no new or changed stipulations on the PSICC as directed by the RODs for the PSICC 1992 Oil and Gas Leasing EIS (February 12, 1992) and the Land and Resource Management Plan (November 18, 1984).

Lead and Cooperating Agencies

The Forest Service is the lead agency. As the agency responsible for offering, selling, and issuing leases, the BLM will participate as a cooperating agency under a memorandum of understanding (MOU). Additionally, the United States Fish and Wildlife Agency (USFWS) and the Colorado Department of Natural Resources will participate as cooperating agencies, under separate MOUs, to provide resource specific expertise when needed.

Responsible Official

The Forest Service responsible official is Jerri Marr, Forest Supervisor, Pike and San Isabel National Forests and Cimarron and Comanche National Grasslands, 2840 Kachina Dr., Pueblo, CO 81008.

The BLM responsible official is Keith Berger, Field Office Manager, Royal Gorge Field Office, 3028 Main St., Canon City, CO 81212.

Nature of the Decision To Be Made

The Responsible Official will determine whether, if, and how the current oil and gas leasing decision, as it relates to land availability and lease stipulations should be changed based on current information and analysis. The Responsible Official will decide which lands administered by the PSICC will be administratively available for oil and gas leasing, which land will be administratively unavailable for oil and gas leasing through management direction or legal reasons, and which lease stipulations would be applied to future oil and gas leases for the protection of other resources [36 CFR 228.102(c)]. Subsequent to the Responsible Official's decision, the Regional Forester will authorize the BLM to offer specific lands for lease. When lands are nominated for leasing, the Forest Service will (1) verify that leasing the specific lands has been adequately addressed in a National Environmental Policy Act (NEPA) document and is consistent with the Forest Plan, and that no significant new information or circumstances would require further analysis; (2) ensure that conditions of surface occupancy are properly included as stipulations in resulting leases; and (3) determine that operations and development could be allowed somewhere on each proposed lease, except where stipulations will prohibit all surface occupancy [36 CFR 228.102(e)]. The BLM State Director must decide whether to offer for lease specific lands authorized for leasing by the PSICC, and must include Forest Service stipulations on any leases offered on NFS lands.

Scoping Process

The first formal opportunity to comment on the revised oil and gas leasing availability and stipulations proposal is during the scoping process (40 CFR 1501.7), which begins with the issuance of this Notice of Intent. The Forest Service requests comments on the nature and scope of potential environmental, social, and economic issues, and possible project alternatives related to oil and gas leasing on NFS lands administered by the PSICC. The Forest Service will work directly with tribal governments to address issues that would significantly or uniquely affect them.

Five open house meetings are planned. The meeting addresses, dates and times are provided in the Supplementary Information section of this notice.

Comment Requested

This notice of intent initiates the scoping process, which guides the development of the PSICC oil and gas leasing availability environmental impact statement. Through the 1992 Oil and Gas EIS and decision, the PSICC has an understanding of the broad range of perspectives on the resource issues and social values attributed to resource activities on the PSICC. Consequently, site-specific comments or concerns are the most important types of information the PSICC needs from the public scoping process. In scoping, the agency, with the assistance of the public, determines the scope of the issues to be addressed and identifies the significant issues related to the proposed action (see 40 CFR 1501.7).

It is important that reviewers provide their comments at such times and in such a way that they are useful to the Agency's preparation of the revised plan and the EIS. Therefore, comments should be provided prior to the close of the comment period and should clearly articulate the reviewers' concerns and contentions. The submission of timely and specific comments can affect a reviewer's ability to participate in subsequent administrative appeal or judicial review.

Comments received in response to this solicitation, including the names and addresses of those who comment will be part of the public record for this proposed action. Comments submitted anonymously will be accepted and considered.

Send written comments to:

Pike and San Isabel National Forests and Cimarron and Comanche National Grasslands Oil and Gas Scoping

Pike and San Isabel National Forests and Cimarron and Comanche National Grasslands, 2840 Kachina Dr., Pueblo, Colorado 81008.

Submit electronic comments to psicc_oandg@fs.fed.us.

To assist the Forest Service in identifying and considering issues and concerns on the proposed action, comments should be as specific as possible. Only individuals or entities who submit timely and specific written comments will have eligibility (36 CFR 218.5) to file an objection under 36 CFR 218.8. For objection eligibility, each individual or representative from each entity submitting timely and specific written comments must either sign the comment or verify identity upon request. Issues raised in an objection must be based on previously submitted timely, specific written comments regarding the proposed action unless based on new information arising after the designated comment opportunities.

Comments received, including the names and addresses of those who comment, will be considered part of the public record on this proposal and will be available for public inspection.

Authority: 40 CFR 1501.7 and 1508.22; Forest Service Handbook 1909.15, Section 21.

Dated: May 14, 2013.
Jerri Marr,
Forest Supervisor, Pike and San Isabel National Forests and Cimarron and Comanche National Grasslands.

[FR Doc. 2013-11909 Filed 5-17-13; 8:45 am]

BILLING CODE 3410-11-P